DEPARTMENT OF ENERGY

Energy Savings Performance Contract (ESPC) Process Improvement Working Group Meeting

AGENCY: Office of Energy Efficiency and Renewable Energy, Department of Energy (DOE).

ACTION: Notice of public meeting.

SUMMARY: This notice announces a public meeting of the Federal Energy Management Program (FEMP) within the Office of Energy Efficiency and Renewable Energy on Measurement and Verification for energy savings performance contracts.

DATES: The public meeting will be held Wednesday, January 13, 2010, 8:30 a.m. until 3:30 p.m.

ADDRESSES: U.S. Department of Energy, 1000 Independence Avenue, SW., Washington, DC 20585. Call-in number: 301-903-0626.

FOR FURTHER INFORMATION CONTACT: http://www1.eere.energy.gov/femp/financing/espcs_publicforums.html, or contact Katy Christiansen at katherine.christiansen@hq.doe.gov, (202)-586-7930.

SUPPLEMENTARY INFORMATION:

Purpose of the Meeting: The purpose of the meeting is to provide an opportunity for the public to present comment on measurement and verification for energy savings performance contracts. Information on the current ESPC program at DOE can be found at http://www1.eere.energy.gov/femp/financing/espcs.html. DOE is considering changes for the purpose of improving quality assurance throughout the life of ESPC contracts.

Tentative Agenda: Agenda will include the following:

• M&V Dashboards.

• Development of M&V Plans.

• M&V Templates.

• Performance Period M&V.

• FEMP ESPC Life of Contract Services.

• Emerging Technologies for ESPCs.

• Comment periods after each presentation.

The meeting is open to the public. DOE invites participation by all interested parties.

For information on:

• The agenda,

• Facilities or services for individuals with disabilities,

• Requests for special assistance,

• Requests to present or speak.

Contact: http://www1.eere.energy.gov/femp/financing/espcs_publicforums.html or Katy Christiansen at Katherine.christiansen@hq.doe.gov, (202) 586-7930.

Minutes: DOE will designate a DOE official to preside at the public meeting. The meeting will not be a judicial or evidentiary-type public hearing. A stenographer will be present to record and transcribe the proceedings. The minutes of the meeting will be available for public review and copying at the Freedom of Information Public Reading Room; Room 1E-190; Forrestal Building; 1000 Independence Avenue, SW., Washington, DC, between 9 a.m. and 4 p.m., Monday through Friday, except Federal holidays.

Public Participation: DOE reserves the right to schedule the order of presentations and to establish the procedures governing the conduct of the public meeting. After the public meeting, interested parties may submit further comments about the proceedings. The public meeting will be conducted in an informal, conference style. Each participant will be allowed to make a prepared general statement (within time limits determined by DOE) before discussion of a particular topic. DOE will permit other participants to comment briefly on any general statements. At the end of all prepared statements on a topic, DOE will permit participants to clarify their statements briefly and comment on statements made by others. DOE representatives may also ask questions of participants concerning other matters relevant to ESPCs and may accept additional comments or questions from those attending, as time permits.

Issued in Washington, DC on December 15, 2009.
Richard Kidd,
FEMP Program Manager.

[FR Doc. E9-30476 Filed 12-22-09; 8:45 am]

BILLING CODE 6450-01-P